DEPARTMENT OF EDUCATION

34 CFR Chapter III

[CFDA Numbers: 84.133A-3 and 84.133A-9; 84.133A-4 and 84.133A-10; and 84.133A-5 and 84.133A-11]

Final Priorities and Definitions—NIDRR DRRP—Community Living and Participation, Health and Function, and Employment of Individuals With Disabilities

AGENCY: Office of Special Education and Rehabilitative Services, Department of Education.

ACTION: Final priorities and definitions.

SUMMARY: The Assistant Secretary for Special Education and Rehabilitative Services announces priorities and definitions for the Disability and Rehabilitation Research Projects and Centers Program administered by the National Institute on Disability and Rehabilitation Research (NIDRR). Specifically, we announce priorities and definitions for Disability and Rehabilitation Research Projects (DRRP) on Community Living and Participation of Individuals with Disabilities (Priority 1), Health and Function of Individuals with Disabilities (Priority 2), and Employment of Individuals with Disabilities (Priority 3).

If an applicant proposes to conduct research under these priorities, the research must be focused on one of the four stages of research defined in this notice of final priorities and definitions.

The Assistant Secretary for Special Education and Rehabilitative Services may use these priorities and definitions for competitions in fiscal year (FY) 2013 and later years. We take this action to focus research attention on areas of national need. We intend these priorities to improve community living and participation, health and function, and employment outcomes of individuals with disabilities.

DATES: Effective Date: These priorities and definitions are effective June 6, 2013.

FOR FURTHER INFORMATION CONTACT: Marlene Spencer, U.S. Department of Education, 400 Maryland Avenue SW., room 5133, Potomac Center Plaza (PCP), Washington, DC 20202-2700. Telephone: (202) 245-7532 or by email: marlene.spencer@ed.gov.

If you use a telecommunications device for the deaf (TDD) or a text telephone (TTY), call the Federal Relay Service (FRS), toll free, at 1-800-877-8339.

SUPPLEMENTARY INFORMATION:

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

DRRPs

DRRPs carry out one or more of the following types of activities, as specified and defined in 34 CFR 350.13 through 350.19: research, training, demonstration, development, dissemination, utilization, and technical assistance. An applicant under this program must demonstrate in its application how it will address, in whole or in part, the needs of individuals with disabilities from minority backgrounds (34 CFR 350.40(a)). The approaches an applicant may take to meet this requirement are found in 34 CFR 350.40(b).

Additional information on the DRRP program can be found at: http://www2.ed.gov/rschstat/research/pubs/res-program.html#DRRP.

Program Authority: 29 U.S.C. 762(g) and 764(a).

Applicable Program Regulations: 34 CFR part 350.

We published a notice of proposed priorities and definitions for this program in the Federal Register on January 25, 2013 (78 FR 5330). That notice contained background information and our reasons for proposing these particular priorities and definitions.

There are differences between the notice of proposed priorities and definitions and this notice of final priorities and definitions as discussed in the Analysis of Comments and Changes section elsewhere in this notice.

Public Comment: In response to our invitation in the notice of proposed priorities and definitions, seven parties submitted comments on the proposed priorities.

Generally, we do not address technical and other minor changes or suggested changes the law does not authorize us to make under the applicable statutory authority. In addition, we do not address general comments that raised concerns not directly related to the proposed priority or definitions.

Analysis of Comments and Changes: An analysis of the comments and of any changes in these priorities since publication of the notice of proposed priorities and definitions follows.

DRRP on Community Living and Participation of Individuals With Disabilities (Priority 1)

Comment: One commenter recommended that NIDRR revise the priority to require applicants to include Family-to-Family Health Information Centers, Parent Training and Information Centers, and Centers for Independent Living among the stakeholders under paragraph (1)(d).

Discussion: Applicants can propose collaboration with Family-to-Family Health Information Centers, Parent Training and Information Centers, and Centers for Independent Living. However, NIDRR does not believe that it should specify the stakeholders that applicants must involve in their research and development activities. The stakeholders recommended by the commenter may not be relevant to many of the research or development topics that could be proposed under this priority, and we do not want to limit the number and breadth of applications that could be submitted. The peer review process will determine the merits of each proposal.

Changes: None.

Comment: Three commenters noted that socioeconomic barriers often magnify disability-related barriers to community living and participation. These commenters recommended that NIDRR focus this priority on the development of, or research on, interventions for improving community living and participation outcomes for low income and ethnic minority individuals with disabilities.

Discussion: Applicants are free to specify their target population as individuals with disabilities who are ethnic minorities or who have low income. The priority areas under paragraph (a) allow applicants to specify target populations of individuals with disabilities generally or within specific disability or demographic groups. NIDRR does not want to limit the number and breadth of applications submitted under this priority by further specifying the target population. The peer review process will determine the merits of each proposal.

Changes: None.

Comment: Three commenters recommended that NIDRR focus this priority on the use of social-networking tools to enhance community living and participation outcomes among people with disabilities.

Discussion: Applicants are free to propose research or development projects that focus on the use of social-networking tools to enhance community living and participation among individuals with disabilities. A focus on social-networking tools could be proposed under many of the priority areas that are listed under paragraph (1)(a). However, we do not want to limit the number and breadth of applications submitted under this priority by requiring all applicants to focus their proposed research or development activities on social-networking tools. The peer review process will determine the merits of each proposal.

Changes: None.

Comment: Three commenters recommended that NIDRR should focus the priority on building the evidence base for peer mentoring and related community supports that are designed to enhance community living and participation outcomes of individuals with disabilities.

Discussion: Applicants are free to propose research or development projects that focus on peer mentoring and related community supports. A focus on peer mentoring and related community supports could be proposed under many of the priority areas that are listed under paragraph (1)(a). However, we do not want to limit the number and breadth of applications submitted under this priority area by requiring all applicants to focus their proposed research or development activities on peer mentoring or related supports. The peer review process will determine the merits of each proposal.

Changes: None.

Health and Function of Individuals With Disabilities (Priority 2)

Comment: One commenter suggested that NIDRR revise paragraph (1)(a)(iv) to require applicants to focus on the Affordable Care Act (ACA) as a policy contributing to improved health and function of individuals with disabilities. Further, the commenter suggested that the priority require applicants to conduct research on programs that highlight State-level implications of the ACA.

Discussion: NIDRR agrees that research related to ACA implementation at the State level is timely and potentially relevant to the health and function outcomes of individuals with disabilities. Applicants are free to propose research related to the ACA. However, NIDRR does not believe it should require applicants to focus on specific policies under paragraph (1)(a)(iv) or specify whether the research should be at the local, State, or national level. We also do not want to limit the number and breadth of applications submitted under this priority by precluding research or development related to other policies that are relevant to the health and function of individuals with disabilities. The peer review process will determine the merits of each proposal.

Changes: None.

Comment: In relation to paragraph (1)(a)(vi) of the proposed priority, one commenter noted that transitions from pediatric to adult health care services and providers can be complex for youth with disabilities. To address this complexity, the commenter recommended that NIDRR revise the priority to require applicants to include Family-to-Family Health Information Centers and Centers for Independent Living among the stakeholders under paragraph (1)(d).

Discussion: NIDRR agrees that health care transitions may be a good topic for research or development activities under paragraph (1)(a)(vi). Applicants choosing to address this priority area are free to propose collaboration with Family-to-Family Health Information Centers and Centers for Independent Living. However, NIDRR does not want to further specify the stakeholders that applicants must involve in their research and development activities. The stakeholders recommended by the commenter may not be relevant to many of the research or development topics that could be proposed under this priority, and we do not want to limit the number and breadth of applications that could be submitted. The peer review process will determine the merits of each proposal.

Changes: None.

DRRP on Employment of Individuals With Disabilities (Priority 3)

Comment: One commenter recommended that NIDRR revise the priority to require applicants to include Parent Training and Information Centers and Centers for Independent Living among the stakeholders under paragraph (1)(d).

Discussion: Applicants are free to propose collaboration with Parent Training and Information Centers and Centers for Independent Living. However, NIDRR does not believe it should further specify the stakeholders that applicants must involve in their research and development activities. The stakeholders recommended by the commenter may not be relevant to many of the research or development topics that could be proposed under this priority. We do not want to limit the number and breadth of applications that could be submitted under this priority. The peer review process will determine the merits of each proposal.

Changes: None.

Comments on all three priorities:

Comment: One commenter noted that the best way to improve outcomes of individuals with disabilities is through local-level collaboration and planning. This commenter suggested that all three priorities require applicants to collaborate with stakeholders at the local level, including church groups, volunteer organizations, and individuals with disabilities and their families.

Discussion: Generally, this suggestion is consistent with each priority's requirement that the DRRPs involve key stakeholder groups in their research or development activities. However, NIDRR does not believe it should specify that stakeholder involvement must occur at the local level since the involvement of local stakeholders might not be relevant to the proposed research. We expect applicants to involve stakeholders whose contributions will enhance the outcomes of the research investment. The peer review process will determine the merits of each proposal.

Changes: None.

Comment: One commenter suggested NIDRR include a priority area for transition-aged youth in each of the three proposed priorities. The commenter recommended that NIDRR revise this priority area in each priority to specify that transition age begins at 14.

Discussion: NIDRR has purposefully written this and other priority areas broadly so that applicants may specify the details of their proposed research or development projects according to their knowledge and expertise and the specific needs for knowledge that they see in their respective fields. We do not want to limit the number and breadth of applications submitted by defining transition-age too specifically. Applicants who respond under this priority area are free to specify the age range that defines transition-aged youth. The peer review process will determine the merits of each proposal.

Changes: None.

Comment: None.

Discussion: NIDRR has determined that the priority area, “research, knowledge translation, and capacity building,” described in paragraph (1)(a)(v) of each of the three priorities does not belong in the list of possible priority areas in which an applicant may propose to conduct research or development activities in our field-initiated competitions. The other priority areas listed in paragraph (1)(a) are examples of substantive topics on which the project may focus its research or development activities. Further, paragraph (1)(c) already requires grantees to conduct knowledge translation activities in order to facilitate use of interventions, programs, technologies or products resulting from research or development activities supported by the project.

Changes: NIDRR has removed paragraph (1)(a)(v) from each of the three priorities and renumbered the paragraph or paragraphs that follow accordingly.

Comment: None.

Discussion: NIDRR is making minor wording adjustments to the introductory text of paragraph (1)(a) of each priority, and to the priority areas that follow the introductory text of paragraph (1)(a). As originally written, each broad topic area repeated the same language about the target audience, namely, “individuals with disabilities as a group or on individuals in specific disability or demographic subpopulations of individuals with disabilities.” This language was repeated subsequently in each of the priority areas. NIDRR is simplifying the priority by identifying the target population in the overall introduction and eliminating it from each specific priority area.

Changes: NIDRR has amended paragraph (1)(a) and its subordinate paragraph in each of the three priorities, so that it is clear to applicants that they may focus on individuals with disabilities as a group or on individuals in specific disability or demographic subpopulations of individuals with disabilities.

Comments on the proposed definitions.

Comment: One commenter recommended that NIDRR modify the definitions of “intervention development” and “intervention efficacy” to emphasize that interventions may be more or less efficacious depending on the socio-demographic characteristics of the target population.

Discussion: NIDRR agrees with the commenter's rational but believes that the proposed definitions of “intervention development” and “intervention efficacy” already include these points and thus do not need to be changed. For example, the definitions include the point that “intervention development” involves specifying target populations. The definitions also state that “intervention efficacy” research may “identify factors or individual characteristics that affect the relationship between the intervention and outcomes.” Because these definitions already allow for the type of sub-population analysis and findings that the commenter suggests, we are not making changes to these definitions.

Changes: None.

FINAL PRIORITIES:

DRRPs on Community Living and Participation of Individuals with Disabilities; Health and Function of Individuals with Disabilities; and Employment of Individuals with Disabilities.

Note: Each of these priorities is associated with two CFDA numbers—one for use by applicants who are proposing research activities, and one for use by applicants who are proposing development activities. We describe the appropriate use of these CFDA numbers in the Notice Inviting Applications that is published elsewhere in this issue of the Federal Register.

Priority 1—DRRP on Community Living and Participation of Individuals With Disabilities

The Assistant Secretary for Special Education and Rehabilitative Services establishes a priority for a Disability Rehabilitation Research Project (DRRP) on Community Living and Participation of Individuals with Disabilities. The DRRPs must contribute to the outcome of maximizing the community living and participation outcomes of individuals with disabilities.

(1) To contribute to this outcome, the DRRP must—

(a) Conduct either research activities or development activities, in one or more of the following priority areas, focusing on individuals with disabilities as a group or on individuals in specific disability or demographic subpopulations of individuals with disabilities:

(i) Technology to improve community living and participation outcomes for individuals with disabilities.

(ii) Individual and environmental factors associated with improved community living and participation outcomes for individuals with disabilities.

(iii) Interventions that contribute to improved community living and participation outcomes for individuals with disabilities. Interventions include any strategy, practice, program, policy, or tool that, when implemented as intended, contributes to improvements in outcomes for individuals with disabilities.

(iv) Effects of government policies and programs on community living and participation outcomes for individuals with disabilities.

(v) Practices and policies that contribute to improved community living and participation outcomes for transition-aged youth with disabilities;

(b) If conducting research under paragraph (1)(a) of this priority, focus its research on a specific stage of research. If the DRRP is to conduct research that can be categorized under more than one stage, including research that progresses from one stage to another, those stages must be clearly specified. These stages, exploration and discovery, intervention development, intervention efficacy, and scale-up evaluation, are defined in this notice;

(c) Conduct knowledge translation activities (i.e., training, technical assistance, utilization, dissemination) in order to facilitate stakeholder (e.g., individuals with disabilities, employers, policymakers, practitioners) use of the interventions, programs, technologies, or products that resulted from the research or development activities conducted under paragraph (1)(a) of this priority; and

(d) Involve key stakeholder groups in the activities conducted under paragraph (1)(a) of this priority in order to maximize the relevance and usability of the research or development products to be developed under this priority.

Priority 2—Health and Function of Individuals With Disabilities

The Assistant Secretary for Special Education and Rehabilitative Services establishes a priority for a Disability and Rehabilitation Research Project (DRRP) on Health and Function of Individuals with Disabilities. The DRRPs must contribute to the outcome of maximizing health and function outcomes of individuals with disabilities.

(1) To contribute to this outcome, the DRRP must—

(a) Conduct either research activities or development activities in one or more of the following priority areas, focusing on individuals with disabilities as a group or on individuals in specific disability or demographic subpopulations of individuals with disabilities:

(i) Technology to improve health and function outcomes for individuals with disabilities.

(ii) Individual and environmental factors associated with improved access to rehabilitation and healthcare and improved health and function outcomes for individuals with disabilities.

(iii) Interventions that contribute to improved health and function outcomes for individuals with disabilities. Interventions include any strategy, practice, program, policy, or tool that, when implemented as intended, contributes to improvements in outcomes for individuals with disabilities.

(iv) Effects of government policies and programs on health care access and on health and function outcomes for individuals with disabilities.

(v) Practices and policies that contribute to improved health and function outcomes for transition-aged youth with disabilities;

(b) If conducting research under paragraph (1)(a) of this priority, focus its research on a specific stage of research. If the DRRP is to conduct research that can be categorized under more than one stage, including research that progresses from one stage to another, those stages must be clearly specified. These stages, exploration and discovery, intervention development, intervention efficacy, and scale-up evaluation, are defined in this notice;

(c) Conduct knowledge translation activities (i.e., training, technical assistance, utilization, dissemination) in order to facilitate stakeholder (e.g., individuals with disabilities, employers, policymakers, practitioners) use of the interventions, programs, technologies, or products that resulted from the research or development activities conducted under paragraph (1)(a) of this priority; and

(d) Involve key stakeholder groups in the activities conducted under paragraph (1)(a) of this priority in order to maximize the relevance and usability of the research or development products to be developed under this priority.

Priority 3—DRRP on Employment of Individuals With Disabilities

The Assistant Secretary for Special Education and Rehabilitative Services establishes a priority for a Disability and Rehabilitation Research Project (DRRP) on Employment of Individuals with Disabilities. The DRRPs must contribute to the outcome of maximizing employment outcomes of individuals with disabilities.

(1) To contribute to this outcome, the DRRP must—

(a) Conduct either research activities or development activities, in one or more of the following priority areas, focusing on individuals with disabilities as a group or on individuals in specific disability or demographic subpopulations of individuals with disabilities:

(i) Technology to improve employment outcomes for individuals with disabilities.

(ii) Individual and environmental factors associated with improved employment outcomes for individuals with disabilities.

(iii) Interventions that contribute to improved employment outcomes for individuals with disabilities. Interventions include any strategy, practice, program, policy, or tool that, when implemented as intended, contributes to improvements in outcomes for individuals with disabilities.

(iv) Effects of government policies and programs on employment outcomes for individuals with disabilities.

(v) Practices and policies that contribute to improved employment outcomes for transition-aged youth with disabilities.

(vi) Vocational rehabilitation (VR) practices that contribute to improved employment outcomes for individuals with disabilities;

(b) If conducting research under paragraph(1)(a) of this priority, focus its research on a specific stage of research. If the DRRP is to conduct research that can be categorized under more than one stage, including research that progresses from one stage to another, those stages must be clearly specified. These stages, exploration and discovery, intervention development, intervention efficacy, and scale-up evaluation, are defined in this notice;

(c) Conduct knowledge translation activities (i.e., training, technical assistance, utilization, dissemination) in order to facilitate stakeholder (e.g., individuals with disabilities, employers, policymakers, practitioners) use of the interventions, programs, technologies, or products that resulted from the research activities, development activities, or both, conducted under paragraph (1)(a) of this priority; and

(d) Involve key stakeholder groups in the activities conducted under paragraphs (1)(a) of this priority in order to maximize the relevance and usability of the research or development products to be developed under this priority.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

FINAL DEFINITIONS:

The Assistant Secretary for Special Education and Rehabilitative Services establishes the following definitions for this program. We may apply one or more of these definition in any year in which this program is in effect.

Exploration and discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

Intervention development means the stage of research that focuses on generating and testing interventions that have the potential to improve outcomes for individuals with disabilities. Intervention development involves determining the active components of possible interventions, developing measures that would be required to illustrate outcomes, specifying target populations, conducting field tests, and assessing the feasibility of conducting a well-designed interventions study. Results from this stage of research may be used to inform the design of a study to test the efficacy of an intervention.

Intervention efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

Scale-up evaluation means the stage of research during which a project analyzes whether an intervention is effective in producing improved outcomes for individuals with disabilities when implemented in a real-world setting. During this stage of research, a project tests the outcomes of an evidence-based intervention in different settings. It examines the challenges to successful replication of the intervention, and the circumstances and activities that contribute to successful adoption of the intervention in real-world settings. This stage of research may also include well-designed studies of an intervention that has been widely adopted in practice, but that lacks a sufficient evidence-base to demonstrate its effectiveness.

This notice does not preclude us from proposing additional priorities, requirements, definitions, or selection criteria, subject to meeting applicable rulemaking requirements.

Note: This notice does not solicit applications. In any year in which we choose to use one or more of these priorities and definitions, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities and definitions only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Summary of potential costs and benefits:

The benefits of the Disability and Rehabilitation Research Projects and Centers Programs have been well established over the years in that similar projects have been completed successfully. These final priorities and definitions will generate new knowledge through research and development.

Another benefit of these final priorities is that establishing new DRRPs will improve the lives of individuals with disabilities. The new DRRPs will provide support and assistance for NIDRR grantees as they generate, disseminate, and promote the use of new information that will improve the options for individuals with disabilities to perform regular activities of their choice in the community.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 2, 2013.
Michael K. Yudin,
Delegated the authority to perform the functions and duties of Assistant Secretary for Special Education and Rehabilitative Services.

[FR Doc. 2013-10829 Filed 5-6-13; 8:45 am]

BILLING CODE 4000-01-P